SMALL BUSINESS ADMINISTRATION

Data Collection Available for Public Comments

ACTION: 60-Day notice and request for comments.

SUMMARY: In accordance with the Paperwork Reduction Act of 1995, this notice announces the Small Business Administration's intentions to request approval on a new and/or currently approved information collection.

DATES: Submit comments on or before March 23, 2020.

ADDRESSES: Send all comments regarding whether this information collection is necessary for the proper performance of the function of the agency, whether the burden estimates are accurate, and if there are ways to minimize the estimated burden and enhance the quality of the collection, to Alison Amann, Attorney Advisor, Office of General Counsel, Small Business Administration, 409 3rd Street, 7th Floor, Washington, DC 20416.

FOR FURTHER INFORMATION CONTACT: Alison Amann, Attorney Advisor, 202-205-6841, alison.amann@sba.gov, Curtis B. Rich, Management Analyst, 202-205-7030, curtis.rich@sba.gov.

SUPPLEMENTARY INFORMATION: This collection is essential to the Agency's mission because if SBA designates an area as a Governor-designated covered area, based on the information provided by the State Governor, additional small businesses may become eligible for certification as HUBZone small business concerns, which in turn will provide them with more contracting opportunities. These additional contracting opportunities create incentives for individuals to start small businesses and allow existing small businesses to grow. SBA has taken all practicable steps to consult with interested agencies and members of the public to minimize the burden of this information collection. SBA intends to make available on its website a list of the areas within each State that meet the statutory definition of “covered area” according to the most recent Bureau of the Census data. This will minimize the burden on State governments by eliminating the need to gather this data and do the necessary analysis to determine which areas may meet the definition of “covered area.” Finally, pursuant to 5 CFR 1320.13(d), SBA also requests a waiver from the requirement to publish a 60-day notice in the Federal Register requesting comments on this information collection. SBA will publish the required notice as part of the standard submission process before the emergency approval expires.

Summary of Information Collection

Title: HUBZone Program Petition for Governor-Designated Covered Areas.

Description of Respondents: HUBZone Small Business concerns.

Form Number: N/A.

Annual Responses: 53.

Annual Burden: 265.

Curtis Rich,
Management Analyst.

[FR Doc. 2020-00817 Filed 1-17-20; 8:45 am]

BILLING CODE P